ENVIRONMENTAL PROTECTION AGENCY

[ER-FRL-6689-4]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070038, ERP No. D-BLM-J65475-WY, Pinedale Resource Management Plan (RMP), Implementation of Public Lands Administered, Sublette and Lincoln Counties, WY.

Summary: EPA expressed environmental concerns about the potential for adverse impacts to air and water quality with full field development, and suggested that the final EIS include additional information and discussion on cumulative impacts analysis, mitigation measures, and adaptive management. Rating EC2.

EIS No. 20070168, ERP No. D-FTA-K59006-CA, Alameda-Contra Transit (AC Transit) East Bay Bus Rapid Transit Project, Improve Transit Serve in cities of Berkeley, Oakland and San Leandro, San Francisco Bay Area, Alameda County, CA.

Summary: While EPA does not object to the proposed project, but suggested additional mitigation measures to minimize air quality impacts during construction. Rating LO.

EIS No. 20070177, ERP No. D-AFS-L65536-OR, Spears Vegetation Management Project, Proposal to Use Commercial Timber Harvest, Pre-commercial Thinning, Prescribed Fire, Grapple Piling and Hand Piling in the Mark Creek Watershed and Veaqie Creek Subwatershed, Lookout Mountain Ranger District, Ochoco National Forest, Crook and Wheeler Counties, OR.

Summary: EPA expressed environmental concerns about potential impacts to water quality and if the level of monitoring is sufficient. The final EIS should provide additional information on mitigation related to roads and reducing sedimentation, and on methodology for determining critical shade in riparian areas proposed for harvest. Rating EC1.

EIS No. 20070184, ERP No. D-AFS-J65480-MT, North Bridger Allotment Management Plan Update, Proposal to Update Allotment Management Plan on 11 Livestock Grazing Allotments, Bozeman Ranger District, Gallatin National Forest, Gallatin County, MT.

Summary: EPA supports the proposed grazing improvements and the preferred alternative, but believes additional information should be provided regarding sites degraded by grazing and the management actions that would be taken to address the degradation in each allotment, and the updated riparian grazing guidelines, and recommends that some inconsistencies in information disclosure be corrected. EPA also has concerns about the availability of adequate funds and resources to implement proposed range improvements and the proposed monitoring program. Rating EC2.

EIS No. 20070187, ERP No. D-COE-G39049-TX, Calhoun County Navigation District's (CCND), Proposed Matagorda Ship Channel Improvement Project to Widened and Deepen Berthing Facilities, U.S. Army COE Section 10 and 404 Permits, Calhoun and Matagorda Counties, TX.

Summary: EPA expressed environmental concerns about impacts related to ocean disposal of dredged material and air quality. Rating EC2.

EIS No. 20070190, ERP No. D-AFS-J65481-MT, Lolo National Forest Integrated Weed Management, To Establish Beneficial Vegetation and Weed Resistant Plant Communities, Missoula, Mineral, Sanders, Granite, Powell, Lewis and Clark, Flathead, Ravalli and Lake Counties, MT.

Summary: EPA supports improvements to the Integrated Weed Management Program, but suggests additional measures to further mitigate potential environmental effects of proposed weed treatments. EPA expressed environmental concerns about herbicide drift into streams and leaching into groundwater; the final EIS should include additional information on monitoring programs that will be used to validate the program's effectiveness. Rating EC2.

EIS No. 20070200, ERP No. D-AFS-F65067-WI, Fishel Vegetation and Transportation Management Project, To Implement Land Management Activities, Eagle River-Florence Ranger District, Chequamegor-Nicolet National Forest, Forest and Vilas Counties, WI.

Summary: EPA expressed environmental concerns about the Preferred Alternative's ability to provide sufficient snags and coarse woody debris, implement measures to promote species health, and treatments within goshawk nest territories to support management objectives. Rating EC2.

EIS No. 20070208, ERP No. D-HUD-K80048-CA, Vista Village Workforce Housing Project, To Provide Professional Managed Affordable Housing, Tahoe Vista, Placer County, CA.

Summary: EPA expressed environmental concerns about air quality and water quality impacts, and suggested that Alternative D-72 Units be selected as this alternative has fewer environmental impacts. EPA also recommended that the project utilize the Leadership in Energy and Environmental Design (LEED) standard for green building. Rating EC1.

EIS No. 20070211, ERP No. D-AFS-L65538-OR, Thorn Fire Salvage Recovery Project, Salvaging Dead and Dying Timber, Shake Table Fire Complex, Malheur National Forest, Grant County, OR.

Summary: EPA supports the mitigation measures such as helicopter logging included for the proposed salvage harvest; however, we have environmental concerns about potential impacts to non-motorized, semi-primitive management areas from salvage activities and long term recreational activities. Rating EC2.

EIS No. 20070241, ERP No. D-NPS-J61023-00, Quarry Visitor Center Treatment Project, To Address the Structural Deterioration, Dinosaur National Monument, CO and UT.

Summary: EPA recognizes that the proposed action is fostered by the need to protect, preserve and reduce physical hazards and we support the green practices and mitigation measures included in the proposed project. Rating LO.

Final EISs

EIS No. 20070032, ERP No. F-AFS-K61164-CA, Commercial Pack Station and Pack Stock Outfitter/Guide Permit Issuance, Implementation, Special-Use-Permit to Twelve Pack Station and Two Outfitter/Guides, Inyo National Forest, CA.

Summary: EPA supports the improvements that will result from Amendment #6, which include forage utilization standards for all pack stock grazing; additional water quality mitigation measures; reduced use levels in the GT/SS Wilderness; and a detailed monitoring, enforcement, and adaptive management plan providing greater riparian protection in 6 pastures. However, EPA continues express environmental concerns about water quality impacts and recommends relocating of Truman Camp out of the riparian area, limits on cross-country travel, and alignment of pack stock trail use levels with the level of trail development.

EIS No. 20070036, ERP No. F-AFS-K65309-00, Heavenly Mountain Resort Master Plan Amendment 2005 (MPA 05), Improve and Enhance the Resorts Over Winter and Summer Recreation Opportunities, Special-Use-Permit, Lake Tahoe Basin, El Dorado County, CA and Douglas County, NV.

Summary: EPA continues to have environmental concerns about watershed and habitat impacts, especially to old growth habitat if Alternative 4 is selected.

EIS No. 20070186, ERP No. F-SFW-K64025-AZ, Cabeza Prieta National Wildlife Refuge, Comprehensive Conservation Plan, Wilderness Stewardship Plan, Implementation, Ajo, AZ.

Summary: No formal comment letter was sent to the preparing agency.

EIS No. 20070194, ERP No. F-AFS-L65504-ID, Payette National Forest Travel Management Plan, Designate a System of Roads, Trails and Areas Open to Motorized and Non-Motorized Use, Implementation, Adam, Washington, Idaho, Valley Counties, ID.

Summary: EPA continues to have environmental concerns and encourages the further reduction of designated ATV and OHV trails, and review the decision to retain road and trail miles that would have been eliminated under Alternative B. Also, we recommend giving consideration to the commitment of resources in Alternative E and its consistency with existing planning direction in the 2003 Forest Plan, and interagency agreements such as the Forest Service and Bureau of Land Management Protocol for Addressing Clean Water Act Section 303(d) Listed Waters.

EIS No. 20070199, ERP No. F-FHW-E40771-NC, Wilmington Bypass Transportation Improvements, U.S. 17 to U.S. 421, Funding, COE Section 10 and 404 Permits and U.S. Coast Guard Bridge Permit Issuance, Brunswick and New Hanover Counties, NC.

Summary: EPA continues to have environmental concerns about stream and wetland impacts, indirect and cumulative air quality impacts from Mobile Source Air Toxics and impacts to Significant Natural Heritage Areas. EPA requested additional avoidance and minimization measures be considered to lessen these impacts.

EIS No. 20070220, ERP No. F-BLM-J65468-WY, Casper Field Office Planning Area Resource Management Plan, Implementation, Natrona, Converse, Goshen, and Platte Counties, WY.

Summary: EPA continues to have environmental concerns about air quality impacts and the need to do a quantitative analysis based on dispersion modeling. In addition, there is potential for adverse impacts to wetlands from OHV use.

EIS No. 20070228, ERP No. F-AFS-G65102-NM, Canadian River Tamarisk Control, Proposes to Control the Nonnative Invasive Species Tamarisk (also known as salt cedar) Cibola National Forest, Canadian River, Harding and Mora Counties, New Mexico.

Summary: No formal comment letter was sent to the preparing agency.

EIS No. 20070242, ERP No. F-COE-F36167-OH, Dover Dam Safety Assurance Program Project, Modifications and Upgrades, Funding, Muskingum River Basin, Tuscarawas County, OH.

Summary: EPA's previous issues have been resolved; therefore, EPA does not object to the proposed action.

EIS No. 20070245, ERP No. F-FHW-C40336-NY, Long Island Expressway (LIE) Rest Area Upgrade Project, Upgrading the Existing Rest Area from Route 1-495/Long Island Expressway between Exits 51 and 52, Funding, Town of Huntington, Suffolk County, NY.

Summary: No formal comment letter was sent to the preparing agency.

EIS No. 20070246, ERP No. F-MMS-L02033-AK, Chukchi Sea Planning Area Oil and Gas Lease Sale 193 and Seismic Surveying Activities, Offshore Marine Environment, Chukchi Sea Coastal Plain, and the North Slope Borough of Alaska.

Summary: EPA's previous concerns have been resolved; therefore, EPA does not object to the action as proposed.

EIS No. 20070223, ERP No. FA-AFS-K65283-CA, Empire Vegetation Management Project, Reducing Fire Hazards, Harvesting of Trees Using Group Selection (GS) and Individual Trees Selection (ITS) Methods, Mt. Hough Ranger District, Plumas National Forest, Plumas County, CA.

Summary: No formal comment letter was sent to the preparing agency.

EIS No. 20070225, ERP No. FD-AFS-L65155-00, Northern Spotted Owl Management Plan, Removal or the Modification to the Survey and Manage Mitigation Measures, Standards and Guidelines (to the Northwest Forest Plan) New Information to Address Three Deficiencies Final Supplemental EIS (2004), Northwest Forest Plan, OR, WA, and CA.

Summary: The analysis in FEIS supports both the utilization of the Special Status Species Programs and previous determinations made as a part of the Annual Species Review Process. Given the importance of the current network of late successional forests in late-successional species' persistence and viability, EPA continues to encourage the Agencies to consider any reasonably foreseeable reserve network or management changes when predicting habitat outcomes.

EIS No. 20070226, ERP No. FS-AFS-J65417-MT, Frenchtown Face Ecosystem Restoration Project, Additional Information Maintenance and Improvement of Forest Health, Risk Reduction of Damage Insects and Disease, Lolo National Forest, Ninemile Ranger District, Missoula County, MT.

Summary: The final supplement addressed EPA's concerns about the preferred alternative. EPA believes watershed restoration activities included in the project will likely result in overall water quality improvement in the long-term.

Dated: July 24, 2007.
Robert W. Hargrove,
Director, NEPA Compliance Division, Office of Federal Activities.

[FR Doc. E7-14569 Filed 7-26-07; 8:45 am]

BILLING CODE 6560-50-P